SECURITIES AND EXCHANGE COMMISSION

[Release No. 34-90994; File No. SR-NASDAQ-2020-017]

Self-Regulatory Organizations; The Nasdaq Stock Market LLC; Notice of Designation of a Longer Period for Commission Action on Proceedings To Determine Whether To Approve or Disapprove a Proposed Rule Change To Amend Nasdaq Rule 5704

January 26, 2021.

On July 23, 2020, The Nasdaq Stock Market LLC filed with the Securities and Exchange Commission (“Commission”), pursuant to Section 19(b)(1) of the Securities Exchange Act of 1934 (“Exchange Act”) ¹ and Rule 19b-4 thereunder,² a proposed rule change to amend certain listing requirements relating to maintaining a minimum number of beneficial holders and minimum number of shares outstanding. The proposed rule change was published for comment in the Federal Register on August 7, 2020.³

¹ 15 U.S.C. 78s(b)(1).

² 17 CFR 240.19b-4.

³ See Securities Exchange Act Release No. 89464 (August 4, 2020), 85 FR 48012.

On September 10, 2020, pursuant to Section 19(b)(2) of the Exchange Act,⁴ the Commission designated a longer period within which to approve the proposed rule change, disapprove the proposed rule change, or institute proceedings to determine whether to disapprove the proposed rule change.⁵ On November 5, 2020, the Commission instituted proceedings under Section 19(b)(2)(B) of the Exchange Act ⁶ to determine whether to approve or disapprove the proposed rule change.⁷ The Commission has received comment letters on the proposed rule change.⁸

⁴ 15 U.S.C. 78s(b)(2).

⁵ See Securities Exchange Act Release No. 89823, 85 FR 57895 (September 16, 2020).

⁶ 15 U.S.C. 78s(b)(2)(B).

⁷ See Securities Exchange Act Release No. 90355, 85 FR 71977 (November 12, 2020).

⁸ Comments on the proposed rule change can be found on the Commission's website at: https://www.sec.gov/comments/sr-nasdaq-2020-017/srnasdaq2020017.htm.

Section 19(b)(2) of the Exchange Act ⁹ provides that, after initiating disapproval proceedings, the Commission shall issue an order approving or disapproving the proposed rule change not later than 180 days after the date of publication of notice of filing of the proposed rule change. The Commission may extend the period for issuing an order approving or disapproving the proposed rule change by not more than 60 days if the Commission determines that a longer period is appropriate and publishes reasons for such determination. The proposed rule change was published for notice and comment in the Federal Register on August 7, 2020. February 3, 2021 is 180 days from that date, and April 4, 2021 is 240 days from that date.

⁹ 15 U.S.C. 78s(b)(2).

The Commission finds it appropriate to designate a longer period within which to issue an order approving or disapproving the proposed rule change so that it has sufficient time to consider the proposed rule change. Accordingly, the Commission, pursuant to Section 19(b)(2) of the Exchange Act,¹⁰ designates April 4, 2021 as the date by which the Commission shall either approve or disapprove the proposed rule change (File No. SR-NASDAQ-2020-017).

¹⁰ Id.

For the Commission, by the Division of Trading and Markets, pursuant to delegated authority.¹¹
¹¹ 17 CFR 200.30-3(a)(31).
J. Matthew DeLesDernier,
Assistant Secretary.

[FR Doc. 2021-02009 Filed 1-29-21; 8:45 am]

BILLING CODE 8011-01-P